ENVIRONMENTAL PROTECTION AGENCY

40 CFR Part 52

Approval and Promulgation of Implementation Plans

CFR Correction

In Title 40 of the Code of Federal Regulations, Part 52 (§ 52.1019 to End), revised as of July 1, 2003, on page 179, § 52.1320 is corrected by adding after the first entry to the table in paragraph (c) under Chapter 6, the following entry.

§ 52.1320 Identification of Plan.

* * * * *

(c) * * *

EPA-Approved Missouri Regulations
Missouri Citation | Title | State effective date | EPA approval date | Explanation
Chapter 6-Air Quality Standards, Definitions, Sampling and Reference Methods, and Air Pollution Control Regulations for the State of Missouri
* * * * *
10-6.020 | Definitions and Common Reference Tables. | 5/30/00 | 3/23/01, 66 FR 16139
* * * * *

[FR Doc. 04-55501 Filed 1-27-04; 8:45 am]

BILLING CODE 1505-01-D